DEPARTMENT OF TRANSPORTATION

Federal Aviation Administration

14 CFR Part 71

[Docket No. FAA-2023-1329; Airspace Docket No. 23-AEA-2]

RIN 2120-AA66

Establishment of United States Area Navigation (RNAV) Routes T-440, T-455, T-457, T-459, and T-476, and Amendment of RNAV Routes T-358, T-416, and T-445; Eastern United States

AGENCY: Federal Aviation Administration (FAA), DOT.

ACTION: Final rule.

SUMMARY: This action establishes United States Area Navigation (RNAV) routes T-440, T-455, T-457, T-459, and T-476, and amends RNAV routes T-358, T-416, and T-445 in support of the FAA's Very High Frequency Omnidirectional Range (VOR) Minimum Operational Network (MON) Program. The purpose is to enhance the efficiency of the National Airspace System (NAS) by transitioning from ground-based navigation aids to a satellite-based navigation system.

DATES: Effective date 0901 UTC, January 25, 2024. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11H, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Brian Vidis, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it will expand the availability of RNAV routing in the eastern United States and improve the efficient flow of air traffic within the NAS by lessening the dependency on ground-based navigation.

History

The FAA published a NPRM for Docket No. FAA-2023-1329 in the Federal Register (88 FR 37177; June 7, 2023), proposing to establish 5 low-altitude RNAV routes and amend 3 low-altitude RNAV routes in support of transitioning the NAS from a ground-based to a satellite-based navigation. Interested parties were invited to participate in this rulemaking effort by submitting written comments on the proposal to the FAA. No comments were received.

Differences From the NPRM

Subsequent to the NPRM, a minor amendment was made to the geographic coordinates for the GABRS, NJ, Waypoint (WP). The GABRS, NJ, WP was moved 1.25 nautical miles (NM) south from its proposed location due to required route geometry and does not substantively alter the proposed route of T-457. The GABRS, NJ, WP is updated from “lat. 39°38′15.91″ N, long. 075°04′15.96″ W” to “lat. 39°37′14.11″ N, long. 075°03′20.87″ W.”

Incorporation by Reference

United States Area Navigation Routes are published in paragraph 6011 of FAA Order JO 7400.11, Airspace Designations and Reporting Points, which is incorporated by reference in 14 CFR 71.1 on an annual basis. This document amends the current version of that order, FAA Order JO 7400.11H, dated August 11, 2023, and effective September 15, 2023. FAA Order JO 7400.11H is publicly available as listed in the ADDRESSES section of this document. These amendments will be published in the next update to FAA Order JO 7400.11.

FAA Order JO 7400.11H lists Class A, B, C, D, and E airspace areas, air traffic service routes, and reporting points.

The Rule

This action amends 14 CFR part 71 by establishing RNAV routes T-440, T-455, T-457, T-459, and T-476, and amend RNAV routes T-358, T-416, and T-445 in the eastern United States to support the VOR MON Program and the transition of the NAS from ground-based navigation to satellite-based navigation. The routes are described below.

T-358: T-358 is an amended route that extends to the northeast between the AVALO, NJ, WP and the Augusta, ME (AUG), VOR/Distance Measuring Equipment (VOR/DME). T-358 overlays VOR Federal airway V-268 between the AVALO WP and the BURDY, MA, WP; and between the LBSTA, MA, WP and the Augusta VOR/DME. The MOYRR, MD, WP name is replaced by the HAMRR, MD, WP at the same location due to similar sounding WP names.

T-416: T-416 is an amended route that moves the RIDNG, NJ, WP 1.83 NM southwest of its current location to align with a standard instrument departure procedure.

T-440: T-440 is a new route that extends from the Elmira, NY (ULW), VOR/DME to the TALLI, PA, WP. T-440 overlays VOR Federal airway V-147 from the Elmira VOR/DME to the Wilkes-Barre, PA (LVZ), VOR/Tactical Air Navigation (VORTAC); and VOR Federal airway V-116 from the Wilkes-Barre VORTAC to the TALLI WP.

T-445: T-445 is an amended route that removes the segment from the Westminster, ME (EMI), VORTAC to the Harrisburg, PA (HAR), VORTAC. Further, the Elmira, NY (ULW), VOR/DME replaces the STUBN, NY, WP.

T-455: T-455 is a new route that extends from the Allentown, PA (FJC), VORTAC to the WIGGZ, PA, WP. T-455 overlays VOR Federal airway V-613 from the Allentown VORTAC to the Wilkes-Barre, PA (LVZ), VORTAC, and overlays VOR Federal airway V-188 from the Wilkes-Barre VORTAC to the Slate Run, PA (SLT), VORTAC.

T-457: T-457 is a new route that extends from the JIIMS, NJ, WP to the BOOCH, PA, WP.

T-459: T-459 is a new route that extends from the JIIMS, NJ, WP to the DOGGR, PA, WP.

T-476: T-476 is a new route that extends from the TUNDR, MD, WP to the WIMKA, NJ, WP.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of establishing RNAV routes T-440, T-455, T-457, T-459, and T-476, and amend RNAV routes T-358, T-416, and T-445 in the eastern United States, to provide additional RNAV routing within the NAS in support of transitioning it from ground-based to satellite-based navigation, qualifies for categorical exclusion under the National Environmental Policy Act (42 U.S.C. 4321 et seq.) and its implementing regulations at 40 CFR part 1500, and in accordance with FAA Order 1050.1F, “Environmental Impacts: Policies and Procedures,” paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5b, which categorically excludes from further environmental impact review “Actions regarding establishment of jet routes and Federal airways (see 14 CFR 71.15, Designation of jet routes and VOR Federal airways) . . .”. As such, this airspace action is not expected to cause any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact study.

Lists of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p.389.

§ 71.1 [Amended]

2. The incorporation by reference in 14 CFR 71.1 of FAA Order JO 7400.11H, Airspace Designations and Reporting Points, dated August 11, 2023, and effective September 15, 2023, is amended as follows:

Paragraph 6011 United States Area Navigation Routes.

* * * * *

T-358 Martinsburg, WV (MRB) to Augusta, ME (AUG) [Amended]
Martinsburg, WV (MRB) | VORTAC | (Lat. 39°23′08.06″ N, long. 077°50′54.08″ W)
CPTAL, MD | WP | (Lat. 39°32′16.02″ N, long. 077°41′55.65″ W)
TWIRK, MD | WP | (Lat. 39°34′36.70″ N, long. 077°12′44.75″ W)
HAMRR, MD | WP | (Lat. 39°30′03.42″ N, long. 076°56′10.84″ W)
DANII, MD | WP | (Lat. 39°17′46.42″ N, long. 076°42′19.36″ W)
OBWON, MD | WP | (Lat. 39°11′54.69″ N, long. 076°32′04.84″ W)
SWANN, MD | WP | (Lat. 39°09′05.28″ N, long. 076°13′43.94″ W)
Smyrna, DE (ENO) | VORTAC | (Lat. 39°13′53.93″ N, long. 075°30′57.49″ W)
AVALO, NJ | WP | (Lat. 39°16′54.52″ N, long. 074°30′50.75″ W)
MANTA, NJ | WP | (Lat. 39°54′07.01″ N, long. 073°32′31.63″ W)
ORCHA, NY | WP | (Lat. 40°54′55.46″ N, long. 072°18′43.64″ W)
Sandy Point, RI (SEY) | VOR/DME | (Lat. 41°10′02.77″ N, long. 071°34′33.91″ W)
BURDY, MA | WP | (Lat. 41°57′19.14″ N, long. 070°57′07.45″ W)
HAVNS, OA | WP | (Lat. 42°17′55.00″ N, long. 070°27′42.00″ W)
GRGIO, MA | WP | (Lat. 42°35′09.36″ N, long. 070°33′54.40″ W)
LBSTA, MA | WP | (Lat. 42°48′00.00″ N, long. 070°36′48.70″ W)
MESHL, ME | WP | (Lat. 43°19′12.07″ N, long. 070°09′48.03″ W)
Augusta, ME (AUG) | VOR/DME | (Lat. 44°19′12.07″ N, long. 069°47′47.63″ W)
* * * * * * *
T-416 Smyrna, NJ (ENO) to PREPI, OA [Amended]
Smyrna, NJ (ENO) | VORTAC | (Lat. 39°13′53.93″ N, long. 075°30′57.49″ W)
TEBEE, NJ | WP | (Lat. 39°30′13.97″ N, long. 075°19′37.19″ W)
LULOO, NJ | WP | (Lat. 39°36′35.96″ N, long. 075°12′57.43″ W)
RIDNG, NJ | WP | (Lat. 39°43′56.08″ N, long. 075°07′12.86″ W)
ALBEK, NJ | WP | (Lat. 39°46′39.92″ N, long. 074°54′25.99″ W)
Coyle, NJ (CYN) | VORTAC | (Lat. 39°49′02.42″ N, long. 074°25′53.85″ W)
PREPI, OA | WP | (Lat. 39°48′41.06″ N, long. 073°15′40.70″ W)
* * * * * * *
T-440 Elmira, NY (ULW) to TALLI, PA [New]
Elmira, NY (ULW) | VOR/DME | (Lat. 42°05′38.96″ N, long. 077°01′29.30″ W)
WLKES, PA | WP | (Lat. 41°16′22.57″ N, long. 075°41′21.60″ W)
TALLI, PA | WP | (Lat. 41°19′01.60″ N, long. 075°06′43.17″ W)
* * * * * * *
T-445 Harrisburg, PA (HAR) to AIRCO, NY [Amended]
Harrisburg, PA (HAR) | VORTAC | (Lat. 40°18′08.06″ N, long. 077°04′10.41″ W)
Selinsgrove, PA (SEG) | VOR/DME | (Lat. 40°47′27.09″ N, long. 076°53′02.55″ W)
LYKOM, PA | WP | (Lat. 41°20′18.75″ N, long. 076°46′30.30″ W)
Elmira, NY (ULW) | VOR/DME | (Lat. 42°05′38.96″ N, long. 077°01′29.32″ W)
BEEPS, NY | WP | (Lat. 42°49′13.26″ N, long. 076°59′04.84″ W)
Rochester, NY (ROC) | VOR/DME | (Lat. 43°07′04.65″ N, long. 077°40′22.06″ W)
AIRCO, NY | WP | (Lat. 43°12′36.66″ N, long. 078°28′57.00″ W)
* * * * * * *
T-455 Allentown, PA (FJC) to WIGGZ, PA [New]
Allentown, PA (FJC) | VORTAC | (Lat. 40°43′36.07″ N, long. 075°27′17.08″ W)
WLKES, PA | WP | (Lat. 41°16′22.57″ N, long. 075°41′21.60″ W)
LYKOM, PA | WP | (Lat. 41°20′18.75″ N, long. 076°46′30.30″ W)
WIGGZ, PA | WP | (Lat. 41°30′51.00″ N, long. 077°58′52.00″ W)
* * * * * * *
T-457 JIMMS, NJ to BOOCH, PA [New]
JIIMS, NJ | WP | (Lat. 39°32′15.62″ N, long. 074°58′01.72″ W)
GABRS, NJ | WP | (Lat. 39°37′14.11″ N, long. 075°03′20.87″ W)
RIDNG, NJ | WP | (Lat. 39°43′56.08″ N, long. 075°07′12.86″ W)
BOJID, PA | WP | (Lat. 40°03′20.87″ N, long. 075°12′16.25″ W)
BOOCH, PA | WP | (Lat. 40°14′09.24″ N, long. 075°16′08.52″ W)
* * * * * * *
T-459 JIIMS, NJ to DOGGR, PA [New]
JIIMS, NJ | WP | (Lat. 39°32′15.62″ N, long. 074°58′01.72″ W)
LULOO, NJ | WP | (Lat. 39°36′35.96″ N, long. 075°12′57.43″ W)
DOGGR, PA | WP | (Lat. 40°08′12.25″ N, long. 075°27′07.50″ W)
* * * * * * *
T-476 TUNDR, MD to WIMKA, NJ [New]
TUNDR, MD | WP | (Lat. 38°44′37.73″ N, long. 076°15′38.97″ W)
FILRO, MD | WP | (Lat. 38°57′51.42″ N, long. 075°56′45.51″ W)
TWANE, MD | WP | (Lat. 39°10′57.10″ N, long. 075°57′34.19″ W)
EYEUP, MD | WP | (Lat. 39°18′30.83″ N, long. 075°51′56.10″ W)
COHLE, DE | WP | (Lat. 39°20′26.55″ N, long. 075°34′36.79″ W)
WIMKA, NJ | WP | (Lat. 39°25′22.02″ N, long. 075°08′32.67″ W)

* * * * *

Issued in Washington, DC, on November 16, 2023.
Karen L. Chiodini,
Acting Manager, Rules and Regulations Group.

[FR Doc. 2023-25852 Filed 11-22-23; 8:45 am]

BILLING CODE 4910-13-P